COMMITTEE FOR PURCHASE FROM PEOPLE WHO ARE BLIND OR SEVERELY DISABLED

Procurement List; Proposed Additions

AGENCY: Committee for Purchase From People Who Are Blind or Severely Disabled.

ACTION: Proposed Additions to the Procurement List.

SUMMARY: The Committee is proposing to add services to the Procurement List that will be provided by nonprofit agencies employing persons who are blind or have other severe disabilities.

Comments must be Received On or Before: 9/26/2011.

ADDRESSES: Committee for Purchase From People Who Are Blind or Severely Disabled, Jefferson Plaza 2, Suite 10800, 1421 Jefferson Davis Highway, Arlington, Virginia 22202-3259.

For Further Information or To Submit Comments Contact: Patricia Briscoe, Telephone: (703) 603-7740, Fax: (703) 603-0655, or e-mail CMTEFedReg@AbilityOne.gov.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will provide the services to the Government.

2. If approved, the action will result in authorizing small entities to provide the services to the Government.

3. There are no known regulatory alternatives which would accomplish the objectives of the Javits-Wagner-O'Day Act (41 U.S.C. 46-48c) in connection with the services proposed for addition to the Procurement List.

Comments on this certification are invited. Commenters should identify the statement(s) underlying the certification on which they are providing additional information.

End of Certification

The following services are proposed for addition to Procurement List for production by the nonprofit agencies listed:

Services

Service Type/Locations: Document Destruction Service.

NPA: NISH (Prime Contractor).

Contracting Activity: Dept. of the Treasury/Internal Revenue Service, Washington, DC.

I.R.S. Offices at the Following Locations

2403 Folsom Street, Eau Claire, WI

425 State Street, La Crosse, WI

NPA (Subcontractor): AccessAbility, Inc., Minneapolis, MN.

FLETC Building 67, Glynco, GA

1131 Chapel Crossing Road, Bldg 67, Brunswick, GA

NPA (Subcontractor): Austin Task, Inc., Austin, TX.

53 North Sixth Street, New Bedford, MA

75 Perseverance Way, Hyannis, MA

One Montvale Ave., Stoneham, MA

NPA (Subcontractor): CranstonArc, Cranston, RI.

1550 Main Street, Springfield, MA

NPA (Subcontractor): Easter Seals Capital Region & Eastern Connecticut, Inc., Windsor, CT.

4309 Jacksboro Highway, Wichita Falls, TX

Third & Pine Streets, Abilene, TX

8404 Esters Blvd, Irving, TX

NPA (Subcontractor): Expanco, Inc., Fort Worth, TX.

14479 S. John Humphrey Drive, Orland Park, IL

NPA (Subcontractor): Glenkirk, Northbrook, IL.

2426 Lee Hwy-Preston SQ, Bristol, VA

NPA (Subcontractor): Goodwill Industries—Knoxville, Inc., Knoxville, TN.

10208 Park Plaza, Suite C, Rothschild, WI

NPA (Subcontractor): Goodwill Industries of Southeastern Wisconsin, Inc., Milwaukee, WI.

1810 Hale Ave, Harlingen, TX

NPA (Subcontractor): Goodwill Industries of South Texas, Inc., Corpus Christi, TX.

1099 Alakea Street, Honolulu, HI

NPA (Subcontractor): Goodwill Contract Services of Hawaii, Inc., Honolulu, HI.

210 Walnut Street, Des Moines, IA

4300 Westown Parkway, West Des Moines, IA

425 Second Street, SE., Cedar Rapids, IA

NPA (Subcontractor): Harrison County Sheltered Workshop Association, Bethany, MO.

7657 Levin Road, Suite L-20, Silverdale, WA

NPA (Subcontractor): Northwest Center, Seattle, WA.

1004 North Big Spring, Midland, TX

NPA (Subcontractor): ReadyOne Industries, Inc., El Paso, TX.

100 Dey Place, Edison, NJ

165 Passaic Avenue, Fairfield, NJ

4 Paragon Way, STE #2, Freehold, NJ

111 Wood Ave, South, Iselin, NJ

30 Montgomery Street, Jersey City, NJ

200 Sheffield Street, Mountainside, NJ

20 Washington Place, Newark, NJ

1 Newark Center, Newark, NJ

1 Kalisa Way, Paramus, NJ

1719 C Route 10, Parsippany, NJ

200 Federal Plaza, Paterson, NJ

955 Springfield Ave, Springfield, NJ

107 Charles Lindbergh Blv, Garden City, NY

1180 Vets Mem Hwy, Hauppauge, NY

50 Clinton St., Hempstead, NY

290 BWY—Foley Square, New York, NY

2283 Third Avenue, New York, NY

33 Maiden Lane, New York, NY

1200 Waters Place, New York—Bronx, NY

1 Lefrak City Plaza, New York—Queens, NY

445 Forrest Ave., New York—Richmond, NY

10 Richmond Terrace, New York—Richmond, NY

10 Metrotech Center, New York—Kings, NY

518A East Main Street, Riverhead, NY

240 W Nyack Road/250, West Nyack, NY

1600 Stewart Ave., Westbury, NY

210 East Post Road, White Plains, NY

NPA (Subcontractor): NYSARC, Inc., NYC Chapter, New York, NY.

300 Pearl Street, Buffalo, NY

130 South Elmwood Avenue, Buffalo, NY

Appletree Business Park, Cheektowaga, NY

201 Como Park Blvd., Cheektowaga, NY

E 3rd & Pendergast, Jamestown, NY

250 Corp. Pl-255 East Ave, Rochester, NY

100 South Clinton Street, Syracuse, NY

615 Erie Blvd. West, Syracuse, NY

10 Broad Street, Rm 130, Utica, NY

1314 Griswald Plaza, Erie, PA

7th & State Street, Erie, PA

NPA (Subcontractor): Lifetime Assistance, Inc., Rochester, NY.

57 Haddonfield Road, Cherry Hill, NJ

5218 Atlantic Avenue, Mays Landing, NJ

44 South Clinton Ave., 3rd Fl, Trenton, NJ

3 W. Broad Street, Bethlehem, PA

200 Lakeside Drive, Suite 220, Horsham, PA

601 S. Henderson Road, King of Prussia, PA

1720 Hempstead Rd Bldg 144, Lancaster, PA

1400 North Providence Rd, Media, PA

600 Arch Street, Philadelphia, PA

701 Market Street, Philadelphia, PA

1601 Market Street, Philadelphia, PA

11620 Caroline Road, Philadelphia, PA

9815 B Roosevelt Blvd., Philadelphia, PA

201 Penn Street, Reading, PA

2801 Eastern Blvd, York, PA

2970 Market Street, Philadelphia, PA

NPA (Subcontractor): Opportunity Center, Incorporated, Wilmington, DE.

1250 Edwin Miller Blvd., Martinsburg, WV

150 Court St, Charleston, WV

420 Riffe St., Sophia, WV

1206 Quarrier St, Charleston, WV

845 Fifth Avenue, Huntington, WV

55 Meridian Parkway, Martinsburg, WV

1021 National Road, Wheeling, WV

NPA (Subcontractor): PACE Enterprises of West Virginia, Inc., Star City, WV.

210 1st Street, SW., Roanoke, VA

1600 N. Coalter Street, Staunton, VA

NPA (Subcontractor): Southside Training Employment Placement Services, Inc., Farmville, VA.

Service Type/Location: Grounds Maintenance, Air Force Research Laboratory Stockbridge Test Facility, 5251 Burleson Road, Oneida, NY.

NPA: Human Technologies Corporation, Utica, NY.

Contracting Activity: Dept. of the Air Force, FA8751 AFRL RIKO, Rome, NY.

Patricia Briscoe,
Deputy Director, Business Operations, Pricing and Information Management.

[FR Doc. 2011-21923 Filed 8-25-11; 8:45 am]

BILLING CODE 6353-01-P